DEPARTMENT OF HEALTH AND HUMAN SERVICES

National Committee on Vital and Health Statistics: Meeting

Pursuant to the Federal Advisory Committee Act, the Department of Health and Human Services announces the following advisory committee meeting.

Name: National Committee on Vital and Health Statistics (NCVHS), Subcommittee on Standards and Security (SSS).

Time and Date: 9 a.m. to 5 p.m., October 28, 2003; 9 a.m. to 5 p.m., October 29, 2003; 8:30 a.m. to 1 p.m., October 30, 2003.

Place: Silver Spring Hilton, 8727 Colesville Road, Silver Spring, MD 20910.

Status: Open.

Purpose: The agenda for Tuesday, October 28th includes discussion on the Consolidated Health Informatics Initiative (CHI) and the International Classification of Diseases 10th revision (ICD-10). The morning session on Wednesday the 28th will be devoted to CHI preliminary reports. During the afternoon session, discussion will take place on the analysis of the impact of moving to ICD-10-CM and ICD-10-PCS. Discussions on ICD-10 will continue on day two. On Thursday the 30th, a discussion on Patient Medical Record Information (PMRI) Standards will begin the day followed by Subcommittee discussion and approval of the PMRI and ICD-10 recommendation letters to the Secretary.

Contact Person for More Information: Substantive program information as well as summaries of meetings and a roster of Committee members may be obtained from Karen Trudel, Senior Technical Advisor, Security and Standards Group, Centers for Medicare and Medicaid Services, MS: C5-24-04, 7500 Security Boulevard, Baltimore, MD 21244-1850, telephone: 410-786-9937; or Marjorie S. Greenberg, Executive Secretary, NCVHS, National Center for Health Statistics, Centers for Disease Control and Prevention, Room 1100, Presidential Building, 6525 Belcrest Road, Hyattsville, Maryland 20782, telephone: (301) 458-4245. Information also is available on the NCVHS home page of the HHS website: http://www.ncvhs.hhs.gov/ where an agenda for the meeting will be posted when available.

Should you require reasonable accommodation, please contact the CDC Office of Equal Employment Opportunity on (301) 458-4EEO (4336) as soon as possible.

Dated: October 6, 2003.
James Scanlon,
Acting Deputy Assistant Secretary for Science and Data Policy, Office of the Assistant Secretary for Planning and Evaluation.

[FR Doc. 03-26143 Filed 10-15-03; 8:45 am]

BILLING CODE 4151-05-M